OFFICE OF PERSONNEL MANAGEMENT

5 CFR Part 532

RIN 3206-AO46

Prevailing Rate Systems; Definition of San Mateo County, California, to a Nonappropriated Fund Federal Wage System Wage Area

AGENCY: Office of Personnel Management.

ACTION: Final rule.

SUMMARY: The Office of Personnel Management (OPM) is issuing a final rule to define San Mateo County, California, as an area of application county to the Monterey, CA, nonappropriated fund (NAF) Federal Wage System (FWS) wage area. This change is necessary because there are three NAF FWS employees working in San Mateo County, and the county is not currently defined to a NAF wage area.

DATES: Effective date: This regulation is effective February 8, 2023. Applicability date: This change applies on the first day of the first applicable pay period beginning on or after February 8, 2023.

FOR FURTHER INFORMATION CONTACT: Ana Paunoiu, by telephone at (202) 606-2858 or by email at pay-leave-policy@opm.gov.

SUPPLEMENTARY INFORMATION: On September 21, 2022, OPM issued a proposed rule (87 FR 57651) to define San Mateo County, California, as an area of application county to the Monterey, CA, NAF FWS wage area.

The Federal Prevailing Rate Advisory Committee (FPRAC), the national labor-management committee responsible for advising OPM on matters concerning the pay of FWS employees, reviewed and recommended these changes by consensus.

The 30-day comment period ended on October 21, 2022. OPM received one comment in support of the proposal to define San Mateo County, CA, to the Monterey, CA wage area.

Regulatory Impact Analysis

This action is not a “significant regulatory action” under the terms of Executive Order (E.O.) 12866 (58 FR 51735, October 4, 1993) and is therefore not subject to review under E.O. 12866 and 13563 (76 FR 3821, January 21, 2011).

Regulatory Flexibility Act

OPM certifies that this rule will not have a significant economic impact on a substantial number of small entities because they will affect only Federal agencies and employees.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This action pertains to agency management, personnel, and organization and does not substantially affect the rights or obligations of nonagency parties and, accordingly, is not a “rule” as that term is used by the Congressional Review Act (Subtitle E of the Small Business Regulatory Enforcement Fairness Act of 1996 (SBREFA)). Therefore, the reporting requirement of 5 U.S.C. 801 does not apply.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Stephen Hickman,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In Appendix D to subpart B, amend the table by revising the wage area listing for the State of California to read as follows:

Appendix D to Subpart B of Part 532—Nonappropriated Fund Wage and Survey Areas

* * * * *

Definitions of Wage Areas and Wage Area Survey Areas

* * * * *

* * * * *
CALIFORNIA
Kern
Survey Area
California:
Kern
Area of Application. Survey area plus:
California:
Fresno
Kings
Los Angeles
Survey Area
California:
Los Angeles
Area of Application. Survey area.
Monterey
Survey Area
California:
Monterey
Area of Application. Survey area plus:
California:
San Mateo
Santa Clara
Orange
Survey Area
California:
Orange
Area of Application. Survey area.
Riverside
Survey Area
California:
Riverside
Area of Application. Survey area.
Sacramento
Survey Area
California:
Sacramento
Area of Application. Survey area plus:
California:
Yuba
Oregon:
Jackson
Klamath
San Bernadino
Survey Area
California:
San Bernadino
Area of Application. Survey area.
San Diego
Survey Area
California:
San Diego
Area of Application. Survey area.
San Joaquin
Survey Area
California:
San Joaquin
Area of Application. Survey area.
Santa Barbara
Survey Area
California:
Santa Barbara
Area of Application. Survey area plus:
California:
San Luis Obispo
Solano
Survey Area
California:
Solano
Area of Application. Survey area plus:
California:
Alameda
Contra Costa
Marin
Napa
San Francisco
Sonoma
Ventura
Survey Area
California:
Ventura
Area of Application. Survey area.

* * * * *

[FR Doc. 2023-00108 Filed 1-6-23; 8:45 am]

BILLING CODE 6325-39-P